DEPARTMENT OF THE TREASURY

Agency Information Collection Activities; Submission for OMB Review; Comment Request; ACH Vendor/Miscellaneous Payment Enrollment Form

AGENCY: Departmental Offices, U.S. Department of the Treasury.

ACTION: Notice.

SUMMARY: The Department of the Treasury will submit the following information collection requests to the Office of Management and Budget (OMB) for review and clearance in accordance with the Paperwork Reduction Act of 1995, on or after the date of publication of this notice. The public is invited to submit comments on these requests.

DATES: Comments should be received on or before May 28, 2019 to be assured of consideration.

ADDRESSES: Send comments regarding the burden estimate, or any other aspect of the information collection, including suggestions for reducing the burden, to (1) Office of Information and Regulatory Affairs, Office of Management and Budget, Attention: Desk Officer for Treasury, New Executive Office Building, Room 10235, Washington, DC 20503, or email at OIRA_Submission@OMB.EOP.gov and (2) Treasury PRA Clearance Officer, 1750 Pennsylvania Ave. NW, Suite 8100, Washington, DC 20220, or email at PRA@treasury.gov.

FOR FURTHER INFORMATION CONTACT: Copies of the submissions may be obtained from Jennifer Quintana by emailing PRA@treasury.gov, calling (202) 622-0489, or viewing the entire information collection request at www.reginfo.gov.

SUPPLEMENTARY INFORMATION:

Fiscal Service (FS)

Title: ACH Vendor/Miscellaneous Payment Enrollment Form.

OMB Control Number: 1530-0069.

Type of Review: Extension without change of a currently approved collection.

Description: Payment data is collected from vendors doing business with the Federal Government. The Treasury Department, Bureau of the Fiscal Service will use the information to electronically transmit payment to financial institutions designated by vendors and miscellaneous recipients.

Form: SF 3881.

Affected Public: Businesses or other for-profits.

Estimated Number of Respondents: 50,000.

Frequency of Response: Once, On Occasion.

Estimated Total Number of Annual Responses: 50,000.

Estimated Time per Response: 15 minutes.

Estimated Total Annual Burden Hours: 12,500.

Authority: 44 U.S.C. 3501 et seq.

Dated: April 22, 2019.
Spencer W. Clark,
Treasury PRA Clearance Officer.

[FR Doc. 2019-08357 Filed 4-24-19; 8:45 am]

BILLING CODE 4810-AS-P